FEDERAL COMMUNICATIONS COMMISSION

Public Information Collection(s) Requirement Submitted to OMB for Emergency Review and Approval

August 24, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 29, 2006. If you anticipate that you will be submitting comments, but find it difficult to do so within the period of time allowed by this notice, you should advise the contacts listed below as soon as possible.

ADDRESSES: Direct all PRA comments to Kristy L. LaLonde, Office of Management and Budget, Room 10234 NEOB, Washington, DC 20503, (202) 395-3087, or via fax at 202-395-5167 or via internet at Kristy_L._LaLonde@omb.eop.gov. and to Judith B. Herman, Federal Communications Commission, Room 1-B441, 445 12th Street, SW., Washington, DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: The Commission is requesting emergency OMB processing of this information collection and has requested OMB approval by September 11, 2006.

OMB Control Number: 3060-0798.

Title: FCC Application for Wireless Telecommunications Bureau Radio Service Authorization.

Form No.: FCC Forms 601.

Type of Review: Revision of a currently approved collection.

Respondents: Business or other for-profit, not-for-profit institutions, state, local and tribal government.

Number of Respondents: 250,920.

Estimated Time Per Response: 1.25 hours (average).

Frequency of Response: On occasion reporting requirement.

Total Annual Burden: 219,505 hours.

Total Annual Cost: $50,144,000.

Privacy Act Impact Assessment: N/A.

Needs and Uses: The Commission is seeking emergency processing of this information collection by September 11, 2006.

The Commission is requesting emergency OMB approval to modify the FCC Form 601 to implement a modified information collection by the conclusion of the ongoing Auction 66 for wireless spectrum. The FCC Form 601, specifically Schedule B, is being modified in order to ensure that the Commission will receive from winning bidders claiming special designated entity benefits all information necessary to permit the Commission to review the qualifications of that winning bidder to receive such benefits. While the FCC Form 601, Schedule B, already requires the submission of most of the information that the Commission requires to conduct this review, this requested information collection modification will ensure that the Commission receives additional information as mandated by a recent Commission order revising the rules applicable to entities seeking designated entity benefits.

The Commission uses the information provided by applicants on FCC Form 601 to update its database and to determine if the applicant is legally, technically and financially qualified to provide licensed services and to make proper use of the frequency spectrum. The information collected pursuant to this modified information collection will be used to ensure that only legitimate designated entities, as defined by the Commission's rules, reap the benefits of the Commission's designated entity program.

Federal Communications Commission.
Marlene H. Dortch,
Secretary.

[FR Doc. E6-14436 Filed 8-29-06; 8:45 am]

BILLING CODE 6712-01-P